DEPARTMENT OF ENERGY

Federal Energy Regulatory Commission

[Project No. 2114-116]

Public Utility District No. 2 of Grant County, Washington (Grant PUD); Notice of Settlement Agreement and Soliciting Comments

February 17, 2006.

Take notice that the following settlement agreement has been filed with the Commission and is available for public inspection.

a. Type of Application: The Priest Rapids Salmon and Steelhead Settlement Agreement.

b. Project No.: P-2114-116.

c. Date Filed: February 10, 2006.

d. Applicant: Public Utility District No. 2 of Grant County, Washington (Grant PUD).

e. Name of Project: Priest Rapids Hydroelectric Project.

f. Location: On the mid-Columbia River, near the city of Ellensburg, in Grant, Yakima, Kittitas, Douglas, Benton, and Chelan Counties, Washington.

g. Filed Pursuant to: Rule 602 of the Commission's Rules of Practice and Procedure, 18 CFR 385.602.

h. Applicant Contact: William J. Madden, Jr., Attorney, Winston & Strawn LLP, 1700 K Street, NW., Washington, DC 20006, (202) 282-5000.

i. FERC Contact: Charles Hall, (202) 502-6853, charles.hall@ferc.gov.

j. Deadline for Filing Comments: March 8, 2006. Reply comments: March 20, 2006.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Grant PUD filed the settlement agreement on behalf of themselves and NOAA Fisheries; U.S. Fish and Wildlife Service; Washington Department of Fish and Wildlife; and the Confederated Tribes of the Colville Reservation. The purpose of the settlement agreement is to resolve among the signatories issues regarding the relicensing of the Priest Rapids Hydroelectric Project. The signatories have agreed that the settlement agreement is fair and reasonable and in the public interest. On behalf of the signatories, Grant PUD requests that the Commission approve the settlement agreement and adopt it as part of a new license without material modification.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY (202) 502-8659. A copy is also available for inspection and reproduction at the address in item h above.

You may also register online at http://www.ferc.gov/docs-filing/esubscription.asp to be notified via e-mail of new filings and issuances related to this or other pending projects. For assistance, contact FERC Online Support.

Magalie R. Salas,
Secretary.

[FR Doc. E6-2705 Filed 2-24-06; 8:45 am]

BILLING CODE 6717-01-P